DEPARTMENT OF COMMERCE

National Oceanic and Atmospheric Administration

[RTID 0648-XV132]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, December 9, 2019, from 9 a.m. to 5:30 p.m.; Tuesday, December 10, 2019, from 9 a.m. to 5 p.m.; Wednesday, December 11, 2019, from 9 a.m. to 5 p.m.; and, Thursday, December 12, 2019, from 9 a.m. to 1 p.m. For agenda details, see SUPPLEMENTARY INFORMATION.

ADDRESSES: The meeting will be held at the Westin Annapolis, 100 Westgate Circle, Annapolis, MD 21401; telephone: (410) 972-4300.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, December 9, 2019

Executive Committee (Closed Session)

Ricks E Savage Award

2020-24 Strategic Plan

Review public comments and approve 2020-2024 Strategic Plan

2020-24 Research Priorities

Review and approve research priorities document

Risk Policy Framework—Meeting #2

Review results of biological and economic management strategy evaluations and select preferred alternative(s)

Surfclam and Ocean Quahog Excessive Shares Amendment

Review public hearing comments and Committee recommendations and select preferred alternatives and take final action

Tuesday, December 10, 2019

Habitat Update

Update on NRHA Assessment, presentation on CCC Habitat Workshop and update of Projects of Interest in the Region

EAFM Summer Flounder Conceptual Model

Presentation of Oscar E. Sette Award (American Fisheries Society)

SSC Membership White Paper

Review and determine future SSC membership needs and expertise

Bluefish 2020 Recreational Specifications

Review recent fishery performance, Monitoring Committee, and Advisory Panel recommendations, adopt recommendation for 2020 federal waters recreational management measures

Bluefish Allocation and Rebuilding Amendment

Review and approve supplemental scoping document for additional scoping hearings

Summer Flounder 2020 Recreational Specifications

Review recent fishery performance, Monitoring Committee, and Advisory Panel recommendations, recommend Conservation Equivalency or coastwide management and associated measures for 2020

Wednesday, December 11, 2019

Scup 2020 Recreational Specifications

Review recent fishery performance, Monitoring Committee, and Advisory Panel recommendations, adopt recommendations for 2020 federal waters recreational management measures

Black Sea Bass 2020 Recreational Specifications

Review fishery performance, Monitoring Committee, and Advisory Panel recommendations, adopt recommendations for 2020 federal waters recreational management measures

Seized Commercial Catch and the Quota Monitoring/Accountability Process

Summer Flounder, Scup, and Black Sea Bass Commercial/Recreational Allocation Amendment

Review and approve draft scoping document

Black Sea Bass Commercial Allocation Addendum/Amendment

Discuss options for addressing potential impacts of coastwide quota management in federal waters on states

Commercial eVTR Omnibus Framework—Meeting #2

Select preferred alternatives and take final action

Thursday, December 12, 2019

2020 Implementation Plan

Review and approve 2020 Implementation Plan

Business Session

Committee Reports: SSC and Executive Committee; Executive Director's Report; Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: November 12, 2019.
Tracey L. Thompson,
Acting Deputy Director, Office of Sustainable Fisheries, National Marine Fisheries Service.

[FR Doc. 2019-24790 Filed 11-14-19; 8:45 am]

BILLING CODE 3510-22-P